DEPARTMENT OF HEALTH AND HUMAN SERVICES

42 CFR Part 84

[Docket Number NIOSH-0137]

RIN 0920-AA33

Total Inward Leakage Requirements for Respirators

AGENCY: Centers for Disease Control and Prevention, Department of Health and Human Services.

ACTION: Notice of proposed rulemaking; extension of comment period.

SUMMARY: The Centers for Disease Control and Prevention (CDC) is extending to March 29, 2010, the comment period for the notice of proposed rulemaking by the National Institute for Occupational Safety and Health (NIOSH) of CDC, entitled “Total Inward Leakage Requirements for Respirators,” published in the Federal Register on Friday, October 30, 2009 (74 FR 56141). In the notice of proposed rulemaking, CDC requested comments by December 29, 2009. The Agency is taking this action in response to requests for an extension to allow interested parties additional time to submit comments.

DATES: Comments: The public comment period is extended by 90 days, from December 29, 2009, as established in the proposed rule of October 30, 2009 (74 FR 56141). All written comments must be received on or before March 29, 2010.

ADDRESSES: You may submit comments, identified by RIN: 0920-AA33, by any of the following methods:

• Federal eRulemaking Portal: http://www.regulations.gov. Follow the instructions for submitting comments.

• E-mail: niocindocket@cdc.gov. Include “RIN: 0920-AA33” and “42 CFR Part 84” in the subject line of the message.

• Mail: NIOSH Docket Office, Robert A. Taft Laboratories, MS-C34, 4676 Columbia Parkway, Cincinnati, OH 45226.

Instructions: All submissions received must include the agency name and docket number or Regulation Identifier Number (RIN) for this rulemaking, RIN: 0920-AA33. All comments received will be posted without change to http://www.cdc.gov/niosh/docket, including any personal information provided.

Docket: For access to the docket to read background documents or comments received, go to http://www.cdc.gov/niosh/docket.

FOR FURTHER INFORMATION CONTACT: Jonathan V. Szalajda, NIOSH, National Personal Protective Technology Laboratory (NPPTL), Post Office Box 18070, 626 Cochrans Mill Road, Pittsburgh, Pennsylvania 15236, telephone (412) 386-5200, facsimile (412) 386-4089, e-mail zfx1@cdc.gov.

SUPPLEMENTARY INFORMATION: The Department of Health and Human Services published a proposed rule entitled “Total Inward Leakage Requirements for Respirators,” on Friday, October 30, 2009 (74 FR 56141). A public meeting was held on December 3, 2009.

The proposed rule would establish total inward leakage (TIL) requirements for half-mask air-purifying particulate respirators approved by NIOSH. The proposed new requirements specify TIL minimum performance requirements and testing to be conducted by NIOSH and respirator manufacturers to demonstrate that these respirators, when selected and used correctly, provide effective respiratory protection to intended users against toxic dusts, mists, fumes, fibers, and biological and infectious aerosols (e.g. influenza A(H5N1), severe acute respiratory syndrome (SARS) coronavirus, and Mycobacterium tuberculosis).

CDC received a written request to extend the comment period for 90 days beyond the December 3, 2009 public meeting on this proposed rule. CDC also received notice during presentations at the December 3, 2009 public meeting that two stakeholders intend to submit written requests for 90-day extensions from the original December 29 deadline. One of these stakeholders indicated that additional time is necessary in order to conduct laboratory research and collect and analyze data on the potential impact of the proposed rule. CDC has considered the requests and is extending the comment period for an additional 90 days past the original deadline of December 29, 2009, such that all written comments must now be received on or before March 29, 2010. The proposed rule contains only one performance requirement and uses criteria and a test method which are already required by the Occupational Safety and Health Administration (OSHA) for the use of this type of respirator. This extended deadline will have provided commenters with a full 90 days for comment on the proposed rule while preserving the Agency's ability to make timely progress on this occupational health priority.

Dated: December 10, 2009.
Kathleen Sebelius,
Secretary.

[FR Doc. E9-29959 Filed 12-16-09; 8:45 am]

BILLING CODE P